DEPARTMENT OF EDUCATION

34 CFR Chapter III

[Docket ID ED-2020-OSERS-0063]

Priority and Requirements—Activities for Traditionally Underserved Populations Catalog of Federal Domestic Assistance (CFDA) Number: 84.315C

AGENCY: Office of Special Education and Rehabilitative Services, Department of Education.

ACTION: Proposed priority and requirements.

SUMMARY: The U.S. Department of Education (Department) proposes a priority under the Rehabilitation Act of 1973, as amended (Rehabilitation Act) for Activities for Traditionally Underserved Populations, Catalog of Federal Domestic Assistance (CFDA) number 84.315C. The purpose of this activity for traditionally underserved populations is to make awards to minority entities and Indian Tribes to conduct research, training and technical assistance, and related activities to improve services under the Rehabilitation Act, especially services provided to individuals from minority backgrounds. As defined in the Rehabilitation Act, a minority entity means an entity that is a historically Black college or university, a Hispanic-serving institution of higher education, an American Indian tribal college or university, or another institute of higher education whose minority student enrollment is at least 50 percent.

DATES: We must receive your comments on or before August 21, 2020.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “How to use Regulations.gov” in the Help section.

• Postal Mail, Commercial Delivery, or Hand Delivery: If you mail or deliver your comments, address them to Kristen Rhinehart-Fernandez, U.S. Department of Education, 400 Maryland Avenue SW, Room 5094, Potomac Center Plaza, Washington, DC 20202-2800.

Privacy Note: The Department's policy is to make all comments received from members of the public available for public viewing in their entirety on the Federal eRulemaking Portal at www.regulations.gov. Therefore, commenters should be careful to include in their comments only information that they wish to make publicly available.

FOR FURTHER INFORMATION CONTACT: Kristen Rhinehart-Fernandez, U.S. Department of Education, 400 Maryland Avenue SW, Room 5094, Potomac Center Plaza, Washington, DC 20202-2800. Telephone: (202) 245-6103. Email: Kristen.Rhinehart@ed.gov.

If you use a telecommunications device for the deaf (TDD) or a text telephone (TTY), call the Federal Relay Service (FRS), toll free, at 1-800-877-8339.

SUPPLEMENTARY INFORMATION:

Invitation to Comment: We invite you to submit comments regarding the proposed priority and requirements. To ensure that your comments have maximum effect in developing the notice of final priority and requirements, we urge you to identify clearly the proposed priority or requirement that each comment addresses. In addition to your general comments and recommended clarifications, we seek input on the proposed design of the training. We are particularly interested in your feedback on the following questions:

1. Applicants must select two focus areas from a list described in the proposed priority to implement cultural competency practices in State vocational rehabilitation (VR) agencies. Is there a greater need for, or should we prioritize, certain focus areas on this list? If so, please explain. Are there activities listed that may or may not be an especially good fit for this program? If so, please specify and explain why.

2. Considering cost and level of effort, are there any activities under Project Activities paragraphs (h)(1) and (2) that may require substantially more time and/or cost than the others? If so, please explain.

3. Under Project Activities, paragraph (c), are there additional content areas that should be included in the training? Please specify and explain why.

4. Additionally, we do not specify competencies that VR counselors and paraprofessionals, and human resource and professional development specialists should be able to demonstrate upon completion of cultural competency training. Are there certain qualities, behaviors, or specific competencies that should be specified as requirements or otherwise incorporated? Please describe and explain why.

We invite you to assist us in complying with the specific requirements of Executive Orders 12866, 13563, and 13771 and their overall requirement of reducing regulatory burden that might result from the proposed priority and requirements. Please let us know of any further ways we could reduce potential costs or increase potential benefits while preserving the effective and efficient administration of the program.

During and after the comment period, you may inspect all public comments about the proposed priority and requirements by accessing Regulations.gov. Due to the current COVID-19 pandemic, the Department buildings are currently not open. However, upon reopening, you may also inspect the comments in person in Room 5059, 550 12th Street SW, Washington, DC, between the hours of 9:30 a.m. and 4:00 p.m., Eastern Time, Monday through Friday of each week except Federal holidays.

Assistance to Individuals with Disabilities in Reviewing the Rulemaking Record: On request we will provide an appropriate accommodation or auxiliary aid to an individual with a disability who needs assistance to review the comments or other documents in the public rulemaking record for the proposed priority and requirements. If you want to schedule an appointment for this type of accommodation or auxiliary aid, please contact the person listed under FOR FURTHER INFORMATION CONTACT.

Purpose of Program: Activities for Traditionally Underserved Populations are designed to improve the quality, access, delivery of services, and outcomes under the Rehabilitation Act, especially services provided to individuals with disabilities from minority backgrounds and also to increase the capacity of minority institutions and Indian tribes to participate in activities funded under the Act.

Program Authority: 29 U.S.C. 718(b)(2)(B).

Proposed Priority:

Proposed Priority—Improving the Delivery of Vocational Rehabilitation Services to, and the Employment Outcomes of, Individuals With Disabilities From Minority Backgrounds

Background

The Department has long been committed to improving the delivery of VR services to and the employment outcomes of individuals with disabilities from minority backgrounds. Specifically, the Department's Rehabilitation Services Administration (RSA) has previously focused Federal financial assistance on building the capacity of its American Indian Vocational Rehabilitation Services (AIVRS) programs. Additionally, in 2014, the 38th Institute on Rehabilitation Issues, funded by RSA, developed “Assume Nothing! A Monograph To Address Underserved Populations, Including Individuals Who are Deaf-Blind” (Assume Nothing!). The monograph was designed to offer professionals at all levels within the VR system practical ideas and recommendations for how to begin to change the status quo for traditionally underserved individuals with disabilities, including individuals who are Deaf-Blind.

In support of the need for activities for traditionally underserved populations, Congress found that “patterns of inequitable treatment of minorities have been documented in all major junctures of the vocational rehabilitation process. As compared to white Americans, a larger percentage of African-American applicants to the VR system is denied acceptance. Of applicants accepted for VR services, a larger percentage of African Americans cases is closed without being rehabilitated. Minorities are provided less training than their white counterparts. Consistently, less money is spent on minorities than on their white counterparts” (Section 21(a)(3) of the Rehabilitation Act of 1973, as amended).

According to Assume Nothing!, “[t]he 2010 U.S. Census (2011) reported that Whites continue to be the largest group (223.6 million), accounting for 72% of all people living in the United States. During the same time, the Black or African American population totaled 38.9 million and accounted for 13% of the total population. Approximately, 14.7 million people (about 5% of all respondents) identified their race as Asian, and 2.9 million respondents indicated they were American Indian or Alaskan Native (0.9%). Between 2000 and 2010, the Hispanic population grew by 43%, rising from 35.3 million in 2000 to 50.5 million in 2010.” This shift was also reflected in the 2013 U.S. Population Census data as described in the “Vocational Rehabilitation Counseling Competency with African Americans: A Professional Development Workshop” (Garcia, 2015), which reflected a decrease in the white population from 75.1 percent in 2000 to 62.6 percent in 2013 and an increase in the African-American population from 12.9 percent in 2000 to 13.2 percent in 2013. According to “Dual Pathways to a Better America, Preventing Discrimination and Promoting Diversity, Final Report” (American Psychological Association, 2012), by 2050, whites are estimated to no longer be the majority racial and ethnic group in the United States.

As the United States becomes more multiethnic, multilingual, and multicultural, the need for multicultural training for VR counselors will increase (Balcazar, Suarez-Balcazar, Keys, & Taylor-Ritzler, 2010). According to recent employment data gathered from the U.S. Bureau of Labor Statistics Current Population Survey (2019), 19.3 percent of individuals with disabilities were employed. In contrast, 66.3 percent of individuals without a disability were employed. The survey data also reflects low employment ratios for individuals with disabilities representing Black (15.6 percent) and Asian (18.9 percent) ethnicities compared to over 60 percent employment for individuals without disabilities within those ethnicity groups.

As evidenced by the comprehensive data described above, we know that our country continues to become more diverse. Therefore, it is critical for VR counselors and paraprofessionals and State VR agencies to be adequately prepared to effectively meet the needs of individuals with disabilities, especially those from minority backgrounds.

Providing staff with cultural competency training can bolster inclusivity and improve outcomes for individuals with disabilities from minority backgrounds. For the purposes of this priority, the term “cultural competency” is used to describe a “set of skills, values and principles that acknowledge, respect, and work toward optimal interactions between the individual and the various cultural and ethnic groups that an individual might come in contact with” (Human Services Edu: Educating To Better The Lives of Others). A culturally competent vocational rehabilitation program will contribute to the elimination of racial and ethnic disparities in the number of employment outcomes by improving outreach, intake, and VR services, including employment opportunities, for individuals with disabilities from minority backgrounds. Cultural competency can be achieved by providing relevant training on the skills, values, and principles that acknowledge, respect, and work toward optimal interactions with VR participants from the various cultural and ethnic groups that a VR counselor, professional, paraprofessional, or others at State VR agencies might encounter and increasing the involvement and inclusion of individuals from minority backgrounds in the VR process. The goal of cultural competency training is to provide the highest quality of service to every individual, regardless of race, ethnicity, or cultural background (Georgetown University: Cultural Competence in Healthcare).

Cultural competency can be achieved by training VR counselors, paraprofessionals, and State VR agencies to provide services in a culturally competent way. According to Georgetown University: Cultural Competence in Healthcare, “training approaches that teach facts about specific groups are best combined with cross-cultural skills-based approaches that can be universally applied.” Training techniques that focus on curiosity, empathy, respect, and humility of individuals with disabilities from minority backgrounds can assist in the process of becoming culturally competent. According to Cultural Competence: Development of a Conceptual Framework (Balcazar, Suarez-Balcazar & Taylor-Ritzler, 2009), “the process of becoming culturally competent can happen through repetitive engagements with diverse groups, by increasing one's critical awareness and knowledge, and/or by having opportunities for reflection and analysis about one's professional performance.” Cultural competency can improve the relations between various cultures and ethnic groups and increase opportunity for individuals with disabilities from minority backgrounds. Finally, inclusion is an integral aspect of cultural competency and was achieved in a cultural diversity initiative of the Statewide Supported Employment System's Change Project in Massachusetts, funded by RSA. As described in “Person-Centered Planning: A gateway to improving vocational rehabilitation services for culturally diverse individuals with disabilities,” the goal of the project was to implement culturally sensitive and non-traditional service strategies and to ensure that at least 20 percent of participants served by the project were members of culturally, ethnically, and linguistically diverse backgrounds. By the end of the project, this goal was achieved, with an inclusion of 23 percent of participants from culturally, ethnically, and linguistically diverse backgrounds (Hasnain, R., Sotnik, P., & Ghiloni, C., 2003).

For these reasons, the Department proposes a priority that would focus on changing the status quo for individuals with disabilities from minority backgrounds through cultural competency training and application, data collection and analysis, evaluation, and dissemination of evidence-based practices. The priority also would be aligned with paragraph (b) of Priority 2—Promoting Innovation and Efficiency, Streamlining Education With an Increased Focus on Improving Student Outcomes, and Providing Increased Value to Students and Taxpayers from the Secretary's Final Supplemental Priorities and Definitions for Discretionary Grant Programs, published in the Federal Register on March 2, 2018 (83 FR 9096). Nothing in the proposed priority and requirements would alter an applicant's or grantee's obligations to comply with nondiscrimination requirements in the U.S. Constitution and Federal civil rights laws, including nondiscrimination on the basis of race or ethnicity, among other bases.

References

American Psychological Association. (2012). Dual pathways to a better America: Preventing discrimination and promoting diversity. https://www.apa.org/pubs/info/reports/dual-pathways-report.pdf.

Assume Nothing! A Monograph from the 38th Institute on Rehabilitation Issues to Address Underserved Populations, Including Individuals Who Are Deaf-Blind (2014). https://ncrtm.ed.gov/Download.aspx?type=doc&id=4645.

Balcazar, F., Suarez-Balcazar, T., & Taylor-Ritzler, T. (2009). Cultural competence: Development of a conceptual framework. Disability and Rehabilitation.

Balcazar, F., Suarez-Balcazar, Y., Keys, C., Taylor-Ritzler, T. (2010). Race, Culture and Disability: Rehabilitation Science and Practice. Jones & Bartlett Publishers, Inc.

Garcia, Brittany. (2015). Vocational Rehabilitation Counseling Competency with African Americans: A Professional Development Workshop. A project presented to the faculty of Graduate and Professional Studies in Education California State University, Sacramento. Submitted in partial satisfaction of the requirements for the degree of Master of Science in Counseling (Vocational Rehabilitation). https://pdfs.semanticscholar.org/8a15/72bca5b0db05417cf6dff4583dcede23368d.pdf.

Georgetown University: Health Policy Institute. Cultural Competency in Health Care: Is It Important for People with Chronic Conditions? https://hpi.georgetown.edu/cultural/#.

Hasnain, R., Sotnik, P., & Ghiloni, C. (2003). Person-Centered Planning: A gateway to improving vocational rehabilitation services for culturally diverse individuals with disabilities. Journal of Vocational Rehabilitation.

Human Services Edu: Educating to Better the Lives of Others. Understanding Cultural Competency. www.humanservicesedu.org/cultural-competency.html.

Rehabilitation Act of 1973, as amended, Section 21(a)(3). U.S. Bureau of Labor Statistics Current Population Survey (2019) https://www.bls.gov/cps/tables.htm.

Proposed Priority:

Project Activities

To be considered for funding under this priority, applicants must, at a minimum, propose a project that will conduct the following activities in a culturally appropriate manner:

(a) Collect and analyze data, including from RSA-911 data ¹ and other relevant sources, about the minority populations and subpopulations identified in the application. Data may include, but is not limited to, employment outcomes, earnings, retention, length of time in VR, challenges or barriers to employment and retention, education, and other relevant data, as available;

¹ The RSA-911 collects a variety of participant characteristics (sex, age, race, disability, health insurance, education level, etc.), barriers to employment (ex-offender, homeless, single parent, etc.), services provided (career, training, and other services), duration of VR case, employment status at the time of exit from the program, and employment status post-exit.

(b) Share the data about the identified minority populations and subpopulations with RSA, State VR agencies, RSA VR technical assistance centers, and other relevant partners and stakeholders;

(c) Develop new or modify existing cultural competency training curricula for VR counselors and paraprofessionals, and human resource and professional development specialists working in State VR agencies and related agencies. To satisfy this requirement, the curricula must—

(1) Contain knowledge, critical awareness, and skills development that confront structural and systemic inequalities;

(2) Address:

(i) Actions that lead to change, such as full inclusion and participation in the mainstream of society, an individual's right to pursue a meaningful career, respect for self-determination and informed choice, and competitive employment;

(ii) Exploration of unconscious and conscious biases, privilege, stereotypes, and prejudicial attitudes; and

(iii) An examination of service culture, policies and practices; and lack of trust in the State VR agency;

(3) Incorporate principles of person-centered planning;

(4) Incorporate culturally appropriate and culturally sensitive training methods;

(5) Include evidence-based ² content, to the extent possible; and

² For the purpose of this priority, “evidence-based” means the proposed project component is supported, at a minimum, by evidence that demonstrates a rationale (as defined in 34 CFR 77.1), where a key project component included in the project's logic model (as defined in 34 CFR 77.1) is informed by research or evaluation findings that suggest the project component is likely to improve relevant outcomes (as defined in 34 CFR 77.1).

(6) Include other critical content, as determined by the project;

(d) Gather input and feedback from a diverse group of stakeholders and subject matter experts to inform the curricula, training and application, and evaluation, including RSA, State VR agencies, and other relevant partners;

(e) Require, as part of the training, that participants develop action plans to continue applying the knowledge, practices, and awareness gained from the training in their respective work settings;

(f) Create two cohorts to pilot the cultural competency training by the end of the first year and evaluate the results. The cohorts must be comprised of VR counselors and paraprofessionals, and human resource and professional development specialists working in State VR agencies and related agencies. For the first cohort, the grantee must collect pre- and post-assessments and feedback from participants. After the first cohort, the grantee must make revisions and improvements to the training curricula, as necessary. The grantee must then test the training in a second cohort to determine if the revisions and improvements worked.

(g) Deliver cultural competency training to VR counselors and paraprofessionals, and human resource and professional development specialists working in State VR agencies and related agencies in years two, three, four, and five. To meet this requirement, the grantee will—

(1) Conduct outreach to VR counselors and paraprofessionals, and human resource and professional development specialists working in State VR agencies and related agencies so that they are aware of, and can participate in cultural competency training;

(2) Offer training using a variety of methods such as a traditional classroom setting, through distance learning facilitated by qualified instructors, through regional trainings and through other delivery methods, as appropriate, to meet the needs of the targeted audience;

(3) Use an online learning platform that is user friendly, compatible with most mobile devices and State VR agency platforms, and meets government and industry-recognized standards for accessibility and cybersecurity;

(4) Use grant funds to offset costs associated with travel for participants, as needed;

(5) Conduct an assessment before and after providing training for each participant in order to establish baseline knowledge, and assess strengths and specific areas for improvement, attainment and application of skills, and any issues or challenges to be addressed post-training to ensure improved delivery of VR services to the minority populations and subpopulations identified in the application;

(6) Assess participant progress towards completing their action plans and provide coaching to address issues or challenges, as needed; and

(7) Offer continuing education units (CEUs), Commission on Rehabilitation Counseling Credit (CRCC), Certified Rehabilitation Counselor (CRC) credit, a certificate of completion, or another form of documentation or verification, as appropriate, to participants that successfully complete the training and fulfill their action plans.

(h) Enable State VR agencies to apply cultural competency practices to various activities of State VR agencies. In Assume Nothing! A Monograph from the 38th Institute on Rehabilitation Issues to Address Underserved Populations, Including Individuals Who Are Deaf-Blind (2014), several recommendations were offered to help State VR agencies remove attributes of service design and delivery that may result in inequality. In line with those recommendations, to meet this requirement, applicants must—

(1) Examine reasons for successful and unsuccessful closures among minority VR program participants and identify disparities between minority and non-minority participants; and collaborate and share data on the disparities between minority and non-minority participants with State VR agencies and the VR-TA Center-Quality Management (VRTAC-QM) and VR TA Center-Quality Employment (VRTAC-QE) to inform their work with State VR agency personnel to ensure that management decisions are established that support sustainable changes in the way outreach, intake, and VR services are provided based on the cultural competency training VR personnel receive;

(2) Select two of the following focus areas—

(i) Update or revise existing policies and procedures or develop new action plans to strengthen and improve delivery of services in a culturally appropriate and culturally sensitive manner;

(ii) Establish new partnerships and strengthen existing partnerships with community rehabilitation providers, workforce programs, and other relevant local community agencies and organizations (i.e., agencies and organizations that provide services related to behavior and mental health, substance dependence, and intellectual developmental disabilities) to better meet the needs of individuals with disabilities from minority backgrounds;

(iii) Develop business engagement activities for individuals with disabilities from minority backgrounds;

(iv) Create opportunities to involve participants from minority populations, or subpopulations, as appropriate, in the establishment of policies and procedures that encourage collaboration between State VR agencies and other State agencies;

(v) Develop opportunities for staff development and retention designed to provide new and existing VR counselors and paraprofessionals, and administrators from minority populations and subpopulations with peer-to-peer mentorship, as well as guidance and support they may need to be successful; and

(vi) Any other activity that improves delivery of services to and outcomes for individuals with disabilities from minority backgrounds;

(3) Develop products, offer communities of learning, conduct webinars, and offer other training and technical assistance delivery methods, as appropriate, related to (1) and (2) described above; and

(4) Provide follow-up to State VR agencies to support the sustainability of cultural competency practices;

(i) Gather input and feedback from a diverse group of stakeholders and subject matter experts to inform the training curricula, application of cultural competency practices in each selected area of focus, evaluation, and product developed, and work collaboratively with RSA, State VR agencies, and other relevant partners;

(j) Evaluate the project. To satisfy this requirement, the grantee must—

(1) Assess whether-cultural competency training provided to VR counselors and paraprofessionals, and human resource and professional development specialists working in State VR agencies and related agencies contributed to improvements in the delivery of services to and employment outcomes for individuals with disabilities from minority backgrounds;

(2) Assess whether the application of cultural competency practices led to improvements in policies, approaches, and behaviors in State VR agencies;

(3) Through voluntary focus groups, use of a unique identifier, or another approach that adheres to participant confidentiality requirements in 34 CFR 361.38, gather input and feedback from VR program participants who identify as members of the minority populations or subpopulations described in the application about their experiences to assess whether the cultural competency training and application of cultural competency practices contributed to improvements in the delivery of service; and

(4) Develop a plan for an evaluation that includes, but is not limited to, approaches and methodologies, timelines, instruments, or tools that will be used, a timeline for the evaluation and measurement benchmarks, and a process for gathering feedback from VR counselors and paraprofessionals, and human resource and professional development specialists, and State VR agencies for continuous improvement throughout years two, three, four, and five of the project;

(k) Develop and maintain a state-of-the-art archiving and dissemination platform, or modify an existing platform, that is open and available to all VR counselors, paraprofessionals, and human resource and professional development specialists, and State VR agencies. To meet this requirement, the grantee must—

(1) Ensure the archiving and dissemination platform provides a central location for all material related to the project, such as data collection, reports, training curricula, audiovisual materials, webinars, communities of learning, examples of evidenced-based and promising practices related to the selected areas of focus, and other relevant material;

(2) Ensure that all material produced by the project meet government and industry-recognized standards for accessibility and cybersecurity;

(3) Disseminate information about the project, including products such as outreach, training curricula, presentations, reports, outcomes, and other relevant information through RSA's National Clearinghouse of Rehabilitation Training Materials (NCRTM) (https://ncrtm.ed.gov/); and

(4) In the final year budget period, ensure the archiving and dissemination platform can be sustained or coordinate with RSA to transition the platform to the NCRTM so that it may be archived and accessible to all after the grant ends;

(5) Disseminate, to all State VR agencies, RSA-funded Rehabilitation Long-Term Training projects and TA Centers, Department-funded programs, and Federal partners, as applicable, the training material for incorporation into existing curricula, as well as products, analysis of data collected, evidence-based and promising practices, and lessons learned. To satisfy this requirement, the grantee must—

(i) Develop participant guides, implementation materials, toolkits, manuals, and other relevant material for instructors, facilitators, State VR agency directors, and human resource and professional development specialists to effectively deliver cultural competency training, in their respective organizations; and

(ii) Provide outreach to and support State VR agencies, RSA-funded Rehabilitation Long-Term Training projects and TA Centers, Department-funded programs, and Federal partners, as applicable, in incorporating or expanding cultural competency training and in applying cultural competency practices across selected focus areas.

Proposed Application Requirements

The Assistant Secretary proposes the following requirements for this activity. We may apply one or more of these requirements in any year in which this activity is in effect. RSA encourages innovative approaches to meet these requirements:

(a) Demonstrate, in the narrative section of the application under “Significance of the Proposed Project,” the minority populations and subpopulations that will be addressed by this project. To meet this requirement, applicants must—

(1) Describe the disparities that exist with respect to VR services and employment outcomes for individuals with disabilities from minority backgrounds, identify education and training needs and any challenges to obtaining education and employment, and present any relevant data;

(2) Describe how the project proposes to improve VR services for, and employment outcomes of, individuals with disabilities from the identified minority backgrounds and subpopulations;

(3) Describe how data about the identified minority populations and subpopulations will be collected and analyzed to inform the field and the training curricula;

(4) Demonstrate how the proposed project will increase the number of VR counselors and paraprofessionals, and human resource and professional development specialists trained in providing culturally competent VR services. To meet this requirement, applicants must—

(i) Describe the cultural competencies that VR counselors and paraprofessionals must demonstrate to provide high-quality services to individuals with disabilities from minority backgrounds; and

(ii) Present information about potential challenges or difficulties to effectively provide cultural competency training and to apply cultural competency practices and any evidence-based practices or strategies that may be used to address these challenges;

(b) Demonstrate, in the narrative section of the application under “Quality of Project Design,” how the proposed project will meet the requirements and intended outcomes of this priority. To meet this requirement, applicants must—

(1) Describe the plan for implementing the project, including key activities, timelines, milestones, and measurable intended project outcomes. The plan should contain adequate time to develop and pilot the training curricula, as well as develop content to support the selected areas of focus. The plan should also build in alternative ways to deliver training and conduct participant follow-up, in the event that convening face-to-face is not possible due to health and safety concerns;

(2) Describe how the proposed project will gather input and feedback from a diverse group of stakeholders and subject matter experts to inform the curricula, training and application, and evaluation, including communication and coordination with RSA, State VR agencies, and other relevant partners. The plan must include alternative forms of communication if in-person meetings are not permitted due to health safety and concerns;

(3) Describe how the proposed project will provide outreach to VR counselors and paraprofessionals, and human resource and professional development specialists working in State VR agencies and related agencies so that they are aware of, and can participate in cultural competency training;

(4) Describe how cultural competency training will be provided to VR counselors and paraprofessionals, and human resource and professional development specialists working in State VR agencies and related agencies, which must include—

(i) Proposed methods, frequency, and duration of the training;

(ii) A proposed methodology for determining training topics;

(iii) A description of how the training needs of recipients, including their ability to respond effectively to the training will be assessed;

(iv) Proposed coaching techniques that may be provided to VR counselors and paraprofessionals, and human resource and professional development specialists working in State VR agencies or related agencies to address issues or challenges, as needed;

(v) A proposed training module or an outline of a training module to demonstrate how VR counselors and paraprofessionals, and human resource and professional development specialists would be trained. The module or outline is a required attachment in the application and must include, at a minimum—

(A) The goals and objectives of the training module;

(B) A description of what participants should know and be able to do as a result of successfully completing the module or presentation;

(C) Up-to-date resources, publications, and other materials that may be used to develop the training module or outline;

(D) Exercises that will provide an opportunity for application of the subject matter;

(E) A description of how participant knowledge, skills, and abilities will be measured; and

(F) A description of how the outcomes and impact of the cultural competency training will be measured;

(5) Describe how the project will incorporate current research and evidenced-based and promising practices, including research about adult learning principles and implementation science, in the development of culturally competent training curricula and enable State VR agencies to apply cultural competency practices to various activities of State VR agencies;

(6) Describe how the project will examine reasons for successful and unsuccessful closures among minority VR program participants, identify disparities between minority and non-minority participants, and describe how this information will be shared with State VR agencies and the VRTAC-QM and VRTAC-QE in ways that will inform their work with State VR agency personnel to ensure that management decisions are established that support sustainable changes in the way outreach, intake, and VR services are provided based on the cultural competency training VR personnel receive;

(7) Select two focus areas from the list described in the priority and develop products, offer communities of learning, conduct webinars, and offer other training and technical assistance delivery methods that are of high quality and of sufficient intensity and duration to achieve the intended outcomes of the proposed project. To meet this requirement, applicants must describe—

(i) Knowledge, skills, and experience in each of the selected areas of focus;

(ii) Methods, frequency, and duration of the activities;

(iii) Proposed methodology for determining selected areas of focus; and

(iv) How follow-up will be provided to State VR agencies to support the sustainability of cultural competency practices within the selected areas of focus; and

(8) Describe how the proposed project will use accessible technology to achieve the intended project outcomes.

(c) Demonstrate, in the narrative section of the application under “Adequacy of Project Resources,” how the proposed costs are reasonable in relation to the anticipated results and benefits. In order to meet this requirement, applicants must—

(1) Describe any proposed consultants or contractors named in the application, their areas of expertise, and provide rationale to demonstrate the need;

(2) Describe costs associated with technology, including, but not limited to, maintaining an online learning platform, state-of-the-art archiving and dissemination platform, and communication tools (i.e., Microsoft Teams, Zoom, Google, Amazon Chime, Skype, etc.) ensuring all products and services meet government-recognized industry standards for accessibility, including costs associated with captioning and transcription services, and cybersecurity;

(3) Designate funds to travel to Washington, DC, or for virtual conferences and meetings when the in-person meetings are not possible due to health and safety concerns, in the beginning of the second year of the project for a one and one half day meeting to present an analysis of the pilots, training curricula, delivering additional activities in the selected focus areas, and plans for outreach, dissemination, and evaluation of the project; and

(4) Designate funds to travel to Washington, DC, or virtual conferences and meetings when in-person meetings are not possible due to health and safety concerns, in the final year of the project for a one and one half day meeting to present an analysis of data collected, outcomes, results of the evaluation, evidence-based and promising practices, and lessons learned;

(d) Demonstrate, in the narrative section of the application under “Quality of Project Personnel,” how—

(1) The proposed project will encourage applications for employment from persons who are members of groups that have historically been underrepresented based on race, color, national origin, gender, age, or disability, as appropriate;

(2) Projects will be operated in a manner consistent with nondiscrimination requirements contained in the U.S. Constitution and the Federal civil rights laws;

(3) The proposed key project personnel will demonstrate the qualifications and experience to provide the training required under this proposed priority and to achieve the project's intended outcomes, including how the proposed project personnel have a degree of knowledge and understanding of cultural factors sufficient to ensure the delivery of training in a culturally appropriate manner; and

(4) The proposed project personnel will demonstrate knowledge and experience working with the VR profession, especially in the provision of services to individuals from minority backgrounds and in working with VR counselors, paraprofessionals, human resource and professional development specialists, and State VR agencies;

(e) Demonstrate, in the narrative section of the application under “Quality of the Management Plan,” how the applicant will ensure that—

(1) The project's intended outcomes, including the evaluation, will be achieved on time and within budget, through—

(i) Clearly defined responsibilities of key project personnel, consultants, and contractors, as applicable;

(ii) Procedures to track and ensure completion of the action steps, timelines, and milestones established for key project activities, requirements, and deliverables;

(iii) Internal monitoring processes to ensure that the project is being implemented in accordance with the established application, cooperative agreement, once developed, and project plan; and

(iv) Internal financial management controls to ensure accurate and timely obligations, drawdowns, and reporting of grant funds, as well as monitoring contracts, in accordance with the Uniform Administrative Requirements, Cost Principles, and Audit Requirements for Federal Awards at 2 CFR part 200 and the terms and conditions of the Federal award;

(2) The allocation of key project personnel, consultants, and contractors, as applicable, including levels of effort of key personnel that are appropriate and adequate to achieve the project's intended outcomes, including an assurance that key personnel will have enough availability to ensure timely communications with stakeholders and RSA;

(3) The products and services are of high quality, relevance, and usefulness, in both content and delivery; and

(4) The proposed project will benefit from a diversity of perspectives, including those of State and local personnel, individuals with disabilities from minority backgrounds, providers, researchers, and policy makers, among others, in its development and operation.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Executive Orders 12866, 13563, and 13771

Regulatory Impact Analysis

Under Executive Order 12866, the Office of Management and Budget (OMB) determines whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

Under Executive Order 13771, for each new rule that the Department proposes for notice and comment or otherwise promulgates that is a significant regulatory action under Executive Order 12866 and that imposes total costs greater than zero, it must identify two deregulatory actions. For FY 2020, any new incremental costs associated with a new rule must be fully offset by the elimination of existing costs through deregulatory actions. However, Executive Order 13771 does not apply to “transfer rules” that cause only income transfers between taxpayers and program beneficiaries, such as those regarding discretionary grant programs. Because the proposed priority and requirements would be utilized in connection with a discretionary grant program, Executive Order 13771 does not apply.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are proposing the priority and requirements only on a reasoned determination that their benefits would justify their costs. In choosing among alternative regulatory approaches, we selected those approaches that maximize net benefits. Based on the analysis that follows, the Department believes that this regulatory action is consistent with the principles in Executive Order 13563.

We have also determined that this regulatory action does not unduly interfere with State, local, and Tribal governments in the exercise of their governmental functions.

In accordance with both Executive orders, the Department has assessed the potential costs and benefits, both quantitative and qualitative, of this regulatory action. The potential costs are those we have determined as necessary for administering the Department's programs and activities. The costs would include the time and effort in responding to the priority and requirements for entities that choose to respond. In addition, we have considered the potential benefits of this regulatory action and have noted these benefits in the background section of this document.

Clarity of the Regulations

Executive Order 12866 and the Presidential memorandum “Plain Language in Government Writing” require each agency to write regulations that are easy to understand.

The Secretary invites comments on how to make this proposed priority and requirements easier to understand, including answers to questions such as the following:

• Are the requirements in the proposed regulations clearly stated?

• Do the proposed regulations contain technical terms or other wording that interfere with their clarity?

• Does the format of the proposed regulations (grouping and order of sections, use of headings, paragraphing, etc.) aid or reduce their clarity?

• Would the proposed regulations be easier to understand if we divided them into more (but shorter) sections?

• Could the description of the proposed regulations in the SUPPLEMENTARY INFORMATION section of this preamble be more helpful in making the proposed regulations easier to understand? If so, how?

• What else could we do to make the proposed regulations easier to understand?

To send any comments that concern how the Department could make these proposed regulations easier to understand, see the instructions in the ADDRESSES section.

Regulatory Flexibility Act Certification: The Secretary certifies that this proposed regulatory action would not have a significant economic impact on a substantial number of small entities. The U.S. Small Business Administration Size Standards define “small entities” as for-profit or nonprofit institutions with total annual revenue below $7,000,000 or, if they are institutions controlled by small governmental jurisdictions (that are comprised of cities, counties, towns, townships, villages, school districts, or special districts), with a population of less than 50,000.

The small entities that this proposed regulatory action would affect are public or private nonprofit agencies and organizations, including Indian Tribes and IHEs that may apply. We believe that the costs imposed on an applicant by the proposed priority and requirements would be limited to paperwork burden related to preparing an application and that the benefits of the proposed priority and requirements would outweigh any costs incurred by the applicant. There are very few entities that could provide the type of technical assistance required under the proposed priority and requirements. For these reasons, the proposed priority and requirements would not impose a burden on a significant number of small entities.

Paperwork Reduction Act of 1995: The proposed priority and application requirements contains information collection requirements that are approved by OMB under OMB control number 1820-0018.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use a PDF, you must have Adobe Acrobat Reader, which is available free at the site.

You may also access documents of the Department published in the Federal Register by using the article search feature at: www.federalregister.gov. Specifically, through the advanced search feature at this site, you can limit your search to documents published by the Department.

Mark Schultz,
Commissioner, Rehabilitation Services Administration. Delegated the authority to perform the functions and duties of the Assistant Secretary for the Office of Special Education and Rehabilitative Services.

[FR Doc. 2020-14535 Filed 7-21-20; 8:45 am]

BILLING CODE 4000-01-P